DEPARTMENT OF HEALTH AND HUMAN SERVICES

Administration for Children and Families

45 CFR Parts 1304 and 1305

RIN 0970-AC77

Head Start Designation Renewal System

AGENCY: Office of Head Start (OHS), Administration for Children and Families (ACF), Department of Health and Human Services (HHS).

ACTION: Final rule; delay of effective date.

SUMMARY: This document delays the effective date of the final rule entitled “Head Start Designation Renewal System,” published in the Federal Register on August 28, 2020. As published, the rule was to be effective October 27, 2020. ACF is postponing the effective date of the rule to November 9, 2020.

DATES: The effective date for the rule amending 45 CFR parts 1304 and 1305, published at 85 FR 53189 on August 28, 2020, is delayed until November 9, 2020.

FOR FURTHER INFORMATION CONTACT: Colleen Rathgeb, Office of Head Start, at HeadStart@eclkc.info or 1-866-763-6481. Deaf and hearing impaired individuals may call the Federal Dual Party Relay Service at 1-800-877-8339 between 8:00 a.m. and 7:00 p.m. Eastern Standard Time.

SUPPLEMENTARY INFORMATION: On August 28, 2020, ACF published a rule refining how the Office of Head Start uses deficiencies, Classroom Assessment Scoring System: Pre-K (CLASS®) scores, and audit findings for designation renewal. The rule also streamlines and updates the regulatory provisions on designation renewal to make them easier to understand. The effective date of the rule has been delayed from October 27, 2020, to November 9, 2020.

Dated: October 7, 2020.
Lynn A. Johnson,
Assistant Secretary for Children and Families.
Approved: October 8, 2020.
Alex M. Azar II,
Secretary.

[FR Doc. 2020-22960 Filed 10-15-20; 8:45 am]

BILLING CODE 4184-01-P